DEPARTMENT OF HOMELAND SECURITY

Coast Guard

[CGD08-04-023]

Notice of Public Hearing on Simmesport Railroad Bridge Across the Atchafalaya River, Mile 4.4 at Simmesport, LA

AGENCY: Coast Guard, DHS.

ACTION: Notice of public hearing; request for comments.

SUMMARY: The Coast Guard will hold a public hearing to receive comments concerning the alteration of the Simmesport Railroad Bridge at Simmesport, Louisiana. The hearing will allow interested persons to present comments and information about the bridge being an unreasonable obstruction.

DATES: The hearing will be held on July 20, 2004, commencing at 1 p.m. Comments must be received by July 12, 2004. Requests to speak must be received in the Office of Bridge Administration at the address given under ADDRESSES by July 12, 2004.

ADDRESSES: The hearing will be held in the Council Chambers, Government Building, 222 St. Louis Street, Baton Rouge, Louisiana 70802.

Written comments may be submitted to, and will be available for examination between 8 a.m. and 4 p.m., Monday through Friday, except Federal holidays at the office of the Commander Eighth Coast Guard District (obr), Bridge Administration Branch, 1222 Spruce Street, St. Louis, MO 63103-2832.

FOR FURTHER INFORMATION CONTACT: Mr. Roger K. Wiebusch, Bridge Administrator, telephone (314) 539-3900, extension 2378.

SUPPLEMENTARY INFORMATION:

Background

Complaints have been received alleging that the bridge is unreasonably obstructive to navigation. Information available to the Coast Guard indicates numerous bridge allusions have occurred between 1991 and 2003. The navigation opening of the bridge is 131 feet and causes significant delays to commercial water traffic during periods of high water mariners avoid transiting the Simmesport Railroad Bridge and take the Port Allen Route to Morgan City, Louisiana, thereby adding 137 miles or one day to their trip. Based on the comments received at the public hearing, the bridge may be found to be unreasonably obstructive to navigation. Such a finding may require relocating and increasing the horizontal clearance of the railroad bridge to meet the needs of navigation.

Procedural

Please submit all comments in an unbound format, no larger than 8 × 11 inches, suitable for copying and electronic filing. Persons wanting acknowledgement of receipt of comments should enclose a stamped, self-addressed postcard or envelope.

Any person, who wishes, may appear and be heard at this public hearing. Individuals and representatives of organizations that wish to present testimony at the hearing may submit a request to this office at the address listed under ADDRESSES clearly indicating name and organization represented. Requests to speak should be received no later than July 12, 2004, in order to ensure proper scheduling for the hearing. Depending on the number of scheduled statements, it may be necessary to limit the amount of time allocated to each person. Any limitation of time allocated will be announced at the beginning of the hearing. Written statements and other exhibits may be submitted in lieu of, or in addition to, oral statements made at the hearing, and may be submitted to this office at the address listed under ADDRESSES unit July 12, 2004, for inclusion in the public hearing transcript. Transcripts of the hearing will be made available for purchase upon request.

Information on Services for Individuals With Disabilities

For information about facilities or services for individuals with disabilities or to request special assistance at the meeting, contact Commander, Eighth Coast Guard District (obr). Please request these services by contacting this office at the phone number under FOR FURTHER INFORMATION CONTACT or in writing at the address listed under ADDRESSES. Any requests for an oral or sign language interpreter must be received by July 12, 2004.

Authority: 33 U.S.C. 513; Department of Homeland Security Delegation No. 0170.1

Dated: June 14, 2004.
R.F. Duncan,
Rear Admiral, U.S. Coast Guard, Commander, Eighth Coast Guard District.

[FR Doc. 04-14626 Filed 6-23-04; 3:18 pm]

BILLING CODE 4910-15-M